INTERNATIONAL TRADE COMMISSION

[Investigation Nos. 701-TA-539 and 731-TA-1280-1282 (Review)]

Heavy Walled Rectangular Welded Carbon Steel Pipes and Tubes From Korea, Mexico, and Turkey

Determination

On the basis of the record ¹ developed in the subject five-year reviews, the United States International Trade Commission (“Commission”) determines, pursuant to the Tariff Act of 1930 (“the Act”), that revocation of the countervailing duty order on heavy walled rectangular welded carbon steel pipes and tubes from Turkey and the antidumping duty orders on heavy walled rectangular welded carbon steel pipes and tubes from Korea, Mexico, and Turkey would be likely to lead to continuation or recurrence of material injury to an industry in the United States within a reasonably foreseeable time.

¹ The record is defined in § 207.2(f) of the Commission's Rules of Practice and Procedure (19 CFR 207.2(f)).

Background

The Commission instituted these reviews on August 2, 2021 (86 FR 41511) and determined on November 5, 2021 that it would conduct expedited reviews (87 FR 7498, February 9, 2022).

The Commission made these determinations pursuant to section 751(c) of the Act (19 U.S.C. 1675(c)). It completed and filed its determinations in these reviews on March 17, 2022. The views of the Commission are contained in USITC Publication 5297 (March 2022), entitled Heavy Walled Rectangular Welded Carbon Steel Pipes and Tubes from Korea, Mexico, and Turkey: Investigation Nos. 701-TA-539 and 731-TA-1280-1282 (Review).

By order of the Commission.
Issued: March 17, 2022.
Lisa Barton,
Secretary to the Commission.

[FR Doc. 2022-06123 Filed 3-22-22; 8:45 am]

BILLING CODE 7020-02-P